DEPARTMENT OF ENERGY

Federal Energy Regulatory Commission

Notice of Amendment of License and Soliciting Comments, Motions To Intervene and Protests

June 9, 2000.

Take notice that the following hydroelectric application has been filed with the Commission and is available for public inspection:

a. Type of Application: Request to amend Sebago Lake Level Management Plan.

b. Project Number: 2984-035

c. Date Filed: May 15, 2000

d. Name of Project: Eel Weir Hydroelectric Project

f. Location: On the Presumpscot River in Cumberland County, Maine. The project does not utilize any federal or tribal lands.

g. Filed Pursuant to: 18 CFR 4.200

h. Applicant Contact: Thomas Howard, Project Engineer, S.D. Warren Company, 89 Cumberland Street, P.O. Box 5000, Westbrook, ME 04098-1597

i. FERC Contact: Any questions on this notice should be addressed to Thomas LoVullo, telephone (202) 219-1168 or e-mail address: thomas.lovullo@ferc.fed.us

j. Deadline for Filing Comments or Motions: July 14, 2000.

All comments or motions must be filed by providing an original and eight copies as required by the Commission's regulations to: David P. Boergers, Secretary Federal Energy Regulatory Commission, 888 First Street, NE., Washington, DC 20426.

k. Description of Amendment Request: S.D. Warren requests Commission approval of its proposal to amend the Sebago Lake Level Management Plan. The licensee proposed to: (1) Install a real-time telemetering water level gage at White's Bridge; (2) further define the upper and lower limits of the lake level rages between May 1 and November 1; (3) provide a target range (+0/−6 inches) for the August 1 date; (4) increase the maximum flow of the operating parameters for Normal Flows from 833 cubic feet per second (cfs) to 1000 cfs; (5) compress the abnormal flow stages from three to two by increasing the maximum flows allowed to be released in stage 1 from 1,667 cfs to 2,667 cfs; and (6) modify the response times for each stage that actuate the increased flows.

The purpose of this notice is to invite comments on S.D. Warren's request to amend the Sebago Lake Level Management Plan. As a result of the drought conditions during the summer of 1999 and the unusual rainfall in September 1999, the operating parameters of the lake level management plan were challenged. S.D. Warren believes the proposed modifications would help improve the management objectives of balancing the competing interests of the lake's resources.

l. Locations of the application: A copy of the application is available for inspection and reproduction at the Commission's Public Reference Room, located at 888 First Street, NE., Room 2A, Washington, DC 20426, or by calling (202) 208-1371. The application may be viewed on the web at www.ferc.fed.us. Call (202) 208-2222 for assistance. A copy is also available for inspection and reproduction at the address in item h above.

Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, or “MOTION TO INTERVENE”, as applicable, and the Project Number of the particular application to which the filing refers. Any of the above-named documents must be filed by providing the original and the number of pies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-15096 Filed 6-14-00; 8:45 am]

BILLING CODE 6717-01-M